DEPARTMENT OF ENERGY

Federal Energy Regulatory Commission

[Docket No. CP22-15-000]

Texas Eastern Transmission, LP; Notice of Intent To Prepare an Environmental Impact Statement for the Proposed Venice Extension Project, Request for Comments on Environmental Issues, Notice of Public Scoping Session, and Schedule for Environmental Review

The staff of the Federal Energy Regulatory Commission (FERC or Commission) will prepare an environmental impact statement (EIS) that will discuss the environmental impacts of the Venice Extension Project (Project) involving construction and operation of facilities by Texas Eastern Transmission, LP (Texas Eastern) in Pointe Coupee, Iberville, Lafourche, and Plaquemines Parishes, Louisiana. The Commission will use this EIS in its decision-making process to determine whether the Project is in the public convenience and necessity. The schedule for preparation of the EIS is discussed in the Schedule for Environmental Review section of this notice.

This notice announces the opening of the scoping process the Commission will use to gather input from the public and interested agencies regarding the Project. As part of the National Environmental Policy Act (NEPA) review process, the Commission takes into account concerns the public may have about proposals and the environmental impacts that could result from its action whenever it considers the issuance of a Certificate of Public Convenience and Necessity. This gathering of public input is referred to as “scoping.” The main goal of the scoping process is to focus the analysis in the environmental document on the important environmental issues. Additional information about the Commission's NEPA process is described below in the NEPA Process and the EIS section of this notice.

By this notice, the Commission requests public comments on the scope of issues to address in the environmental document, including comments on potential alternatives and impacts, and any relevant information, studies, or analyses of any kind concerning impacts affecting the quality of the human environment. To ensure that your comments are timely and properly recorded, please submit your comments so that the Commission receives them in Washington, DC on or before 5:00 p.m. Eastern Time on April 15, 2022. Comments may be submitted in written or oral form. Further details on how to submit comments are provided in the Public Participation section of this notice.

If you are a landowner receiving this notice, a pipeline company representative may contact you about the acquisition of an easement to construct, operate, and maintain the proposed facilities. The company would seek to negotiate a mutually acceptable easement agreement. You are not required to enter into an agreement. However, if the Commission approves the Project, the Natural Gas Act conveys the right of eminent domain to the company. Therefore, if you and the company do not reach an easement agreement, the pipeline company could initiate condemnation proceedings in court. In such instances, compensation would be determined by a judge in accordance with state law. The Commission does not grant, exercise, or oversee the exercise of eminent domain authority. The courts have exclusive authority to handle eminent domain cases; the Commission has no jurisdiction over these matters.

Texas Eastern provided landowners with a fact sheet prepared by the FERC entitled “An Interstate Natural Gas Facility On My Land? What Do I Need To Know?” which addresses typically asked questions, including the use of eminent domain and how to participate in the Commission's proceedings. This fact sheet along with other landowner topics of interest are available for viewing on the FERC website (www.ferc.gov) under the Natural Gas Questions or Landowner Topics link.

Public Participation

There are four methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is also on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”;

(3) You can file a paper copy of your comments by mailing them to the Commission. Be sure to reference the project docket number (CP22-15-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852; or

(4) In lieu of sending written comments, the Commission invites you to attend one of the virtual public scoping sessions its staff will conduct by telephone, scheduled as follows:

Date and Time

Tuesday, March 29, 2022, 5:00 p.m.-7:00 p.m. (EST), Call in number: 800-779-8625, Participant code: 3472916

Wednesday, March 30, 2022, 5:00 p.m.-7:00 p.m. (EST), Call in number: 800-779-8625, Participant code: 3472916

The primary goal of these scoping sessions is to have you identify the specific environmental issues and concerns that should be considered in the environmental document. Individual oral comments will be taken on a one-on-one basis with a court reporter present on the line. This format is designed to receive the maximum amount of oral comments, in a convenient way during the timeframe allotted, and is in response to the ongoing COVID-19 pandemic.

There will not be a formal presentation by Commission staff when the session opens. Each scoping session is scheduled from 5:00 p.m. to 7:00 p.m. Eastern Time. You may call at any time after 5:00 p.m. at which time you will be placed on mute and hold. Calls will be answered in the order they are received. Once answered, you will have the opportunity to provide your comment directly to a court reporter with FERC staff or representative present on the line. A time limit of three minutes will be implemented for each commentor.

Transcripts of all comments received during the scoping sessions will be publicly available on FERC's eLibrary system (see the last page of this notice for instructions on using eLibrary).

It is important to note that the Commission provides equal consideration to all comments received, whether filed in written form or provided orally at a virtual scoping session.

Additionally, the Commission offers a free service called eSubscription. This service provides automatic notification of filings made to subscribed dockets, document summaries, and direct links to the documents. Go to https://www.ferc.gov/ferc-online/overview to register for eSubscription.

Summary of the Proposed Project, the Project Purpose and Need, and Expected Impacts

Texas Eastern proposes to (i) construct, install, own, operate and maintain an approximately 3.0-mile-long, 36-inch-diameter pipeline segment on its Line 40 in Pointe Coupee Parish; (ii) abandon in place a 2.2-mile-long, 36-inch-diameter existing pipeline segment on Line 40 in Pointe Coupee Parish; (iii) construct a new 31,900 horsepower (hp) compressor station and metering and regulating facilities in Pointe Coupee Parish; (iv) abandon in place the existing, inactive 19,800 hp compressor unit at its White Castle Compressor Station in Iberville Parish, and the existing, inactive 19,800 hp compressor unit at its Larose Compressor Station in Lafourche Parish; (v) install one new 31,900 hp compressor unit and related appurtenances at both the White Castle and Larose Compressor Stations; and (vi) upgrade a metering and regulating facility on a platform in Plaquemines Parish.

The Project would reverse natural gas flow on a portion of Texas Eastern's Line 40 to provide firm natural gas transportation service for up to 1,260,000 dekatherms per day on its existing Line 40 to an interconnection with a proposed pipeline lateral, owned and operated by Venture Global Gator Express, LLC, with ultimate delivery to Venture Global Plaquemines LNG, LLC's liquefied natural gas (LNG) terminal. Texas Eastern states that the Project is needed to provide the necessary natural gas pipeline infrastructure to ensure the firm transportation of natural gas to the Plaquemines LNG terminal that Venture Global Gator Express, LLC is seeking.

The general location of the Project facilities is shown in appendix 1.¹

¹ The appendices referenced in this notice will not appear in the Federal Register. Copies of the appendices were sent to all those receiving this notice in the mail and are available at www.ferc.gov using the link called “eLibrary”. For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Based on the environmental information provided by Texas Eastern, construction of the proposed facilities would disturb about 285.5 acres of land for the aboveground facilities and the pipeline. Following construction, Texas Eastern would maintain about 42.2 acres for operation of the Project facilities; the remaining acreage would be restored and revert to former uses. About 56 percent of the proposed pipeline route parallels existing pipeline, utility, or road rights-of-way.

Based on an initial review of Texas Eastern's proposal, Commission staff have identified several expected impacts that deserve attention in the EIS. The majority of the Project impacts would be within waterbodies (with approximately 169.4 acres of potential impacts within these systems), resulting in further impacts on fisheries and essential fish habitat. Further, Project construction would impact about 28.6 acres of forested land/wildlife habitat and require 13.6 acres for operation; multiple residences would be in close proximity to the abandonment of the existing pipeline segment; and the Project would increase air emissions.

The NEPA Process and the EIS

The EIS issued by the Commission will discuss impacts that could occur as a result of the construction and operation of the proposed Project under the relevant general resource areas:

• Geology and soils;

• water resources and wetlands;

• vegetation and wildlife;

• threatened and endangered species;

• cultural resources;

• land use;

• air quality and noise; and

• reliability and safety.

Commission staff will also make recommendations on how to lessen or avoid impacts on the various resource areas. Your comments will help Commission staff focus its analysis on the issues that may have a significant effect on the human environment.

The EIS will present Commission staff's independent analysis of the issues. Staff will prepare a draft EIS which will be issued for public comment. Commission staff will consider all timely comments received during the comment period on the draft EIS and revise the document, as necessary, before issuing a final EIS. Any draft and final EIS will be available in electronic format in the public record through eLibrary ² and the Commission's natural gas environmental documents web page (https://www.ferc.gov/industries-data/natural-gas/environment/environmental-documents). If eSubscribed, you will receive instant email notification when the environmental document is issued.

² For instructions on connecting to eLibrary, refer to the last page of this notice.

Alternatives Under Consideration

The EIS will evaluate reasonable alternatives that are technically and economically feasible and meet the purpose and need for the proposed action.³ Alternatives currently under consideration include:

³ 40 CFR 1508.1(z).

• The no-action alternative, meaning the Project is not implemented;

• system alternatives, meaning using existing facilities to meet the needs of the Project;

• pipeline route alternatives, meaning using alternate pipeline routes that may avoid impacting specific resources or residences; and

• compression drive alternatives, meaning using different equipment to power the compressors, such as electric-driven units.

With this notice, the Commission requests specific comments regarding any additional potential alternatives to the proposed action or segments of the proposed action. Please focus your comments on reasonable alternatives (including alternative facility sites and pipeline routes) that meet the Project objectives, are technically and economically feasible, and avoid or lessen environmental impact.

Consultation Under Section 106 of the National Historic Preservation Act

In accordance with the Advisory Council on Historic Preservation's implementing regulations for section 106 of the National Historic Preservation Act, the Commission is using this notice to initiate consultation with the applicable State Historic Preservation Office(s), and other government agencies, interested Indian tribes, and the public to solicit their views and concerns regarding the Project's potential effects on historic properties.⁴ The Project EIS will document findings on the impacts on historic properties and summarize the status of consultations under section 106.

⁴ The Advisory Council on Historic Preservation's regulations are at Title 36, Code of Federal Regulations, Part 800. Those regulations define historic properties as any prehistoric or historic district, site, building, structure, or object included in or eligible for inclusion in the National Register of Historic Places.

Schedule for Environmental Review

On November 24, 2021, the Commission issued its Notice of Application for the Project. Among other things, that notice alerted other agencies issuing federal authorizations of the requirement to complete all necessary reviews and to reach a final decision on the request for a federal authorization within 90 days of the date of issuance of the Commission staff's final EIS for the Project. This notice identifies the Commission staff's planned schedule for completion of the final EIS for the Project, which is based on an issuance of the draft EIS in August 2022.

Issuance of Notice of Availability of the final EIS—February 17, 2023

90-day Federal Authorization Decision Deadline ⁵—May 18, 2023

⁵ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary for the final EIS, an additional notice will be provided so that the relevant agencies are kept informed of the Project's progress.

Permits and Authorizations

The table below lists the anticipated permits and authorizations for the Project required under federal law. This list may not be all-inclusive and does not preclude any permit or authorization if it is not listed here. Agencies with jurisdiction by law and/or special expertise may formally cooperate in the preparation of the Commission's EIS and may adopt the EIS to satisfy its NEPA responsibilities related to this Project. Agencies that would like to request cooperating agency status should follow the instructions for filing comments provided under the Public Participation section of this notice.

Agency | Permit
U.S. Army Corps of Engineers | Section 404 of the Clean Water Act.
U.S. Fish and Wildlife Service | Consultation under Section 7 of the Endangered Species Act (ESA); Migratory Bird Treaty Act; Bald and Golden Eagle Protection Act; and Wildlife Coordination Act.
U.S. Department of Commerce; National Oceanic and Atmospheric Administration, National Marine Fisheries Service | Section 7 of the ESA; Marine Mammal Protection Act; Section 305 of the Magnuson-Stevens Act.
Louisiana Department of Environmental Quality (LDEQ) | Section 401 of the Clean Water Act, Water Quality Certification.
Louisiana Division of Historic Preservation | Section 106 of the National Historic Preservation Act.
Louisiana Department of Natural Resources, Office of Coastal Management | Coastal Use Permit; Coastal Zone Consistency Review. JPA filed with the U.S. Army Corps of Engineers—New Orleans District.

Environmental Mailing List

This notice is being sent to the Commission's current environmental mailing list for the Project which includes federal, state, and local government representatives and agencies; environmental and public interest groups; Native American Tribes; and other interested parties. This list also includes all affected landowners (as defined in the Commission's regulations) who are potential right-of-way grantors, whose property may be used temporarily for Project purposes, or who own homes within certain distances of aboveground facilities, and anyone who submits comments on the Project and includes a mailing address with their comments. Commission staff will update the environmental mailing list as the analysis proceeds to ensure that Commission notices related to this environmental review are sent to all individuals, organizations, and government entities interested in and/or potentially affected by the proposed Project. State and local government representatives should notify their constituents of this proposed project and encourage them to comment on their areas of concern.

If you need to make changes to your name/address, or if you would like to remove your name from the mailing list, please complete one of the following steps:

(1) Send an email to GasProjectAddressChange@ferc.gov stating your request. You must include the docket number CP22-15-000 in your request. If you are requesting a change to your address, please be sure to include your name and the correct address. If you are requesting to delete your address from the mailing list, please include your name and address as it appeared on this notice. This email address is unable to accept comments.

OR

(2) Return the attached “Mailing List Update Form” (appendix 2).

Additional Information

Additional information about the Project is available from the Commission's Office of External Affairs, at (866) 208-FERC, or on the FERC website at www.ferc.gov using the eLibrary link. Click on the eLibrary link, click on “General Search” and enter the docket number in the “Docket Number” field, excluding the last three digits (i.e., CP22-15). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: March 16, 2022.
Kimberly D. Bose,
Secretary.

[FR Doc. 2022-06018 Filed 3-21-22; 8:45 am]

BILLING CODE 6717-01-P